DEPARTMENT OF JUSTICE

Notice of Lodging of Consent Decree Under the Comprehensive Environmental Response, Compensation, and Liability Act (CERCLA)

Notice is hereby given that on August 11, 2010, a proposed Consent Decree (“Decree”) in United States and the State of South Dakota v. Jeraldine Borsch Fahrni, the Chester A. Borsch, Jr. Trust, and Chester A. Borsch, Jr. as Trustee of the Chester A. Borsch, Jr. Trust, Case No. 5:10-CV-05068-JLV, was lodged with the United States District Court for the District of South Dakota, Western Division. The case was brought under Sections 107(a) and 113(g)(2) of the Comprehensive Environmental Response, Compensation, and Liability Act (“CERCLA”), 42 U.S.C. §§ 9607(a) and 9613(g)(2), for the recovery of response costs related to the cleanup at the Gilt Edge Mine Superfund Site (“Site”) in Lawrence County, South Dakota.

The Consent Decree requires the Defendants to confess to (1) entry of judgment in the amount of $890,000; (2) agree to transfer the Site properties they own to the State of South Dakota; and (3) assign any insurance coverage related to the Site to the United States.

The United States and the State of South Dakota filed a Complaint simultaneous with the Consent Decree alleging that the Defendants are jointly and severally liable for response costs related to the cleanup at the Gilt Edge Mine Superfund Site in Lawrence County, South Dakota. 42 U.S.C. 9607(a), 9613(g)(2). The Consent Decree would resolve the claims against the Defendants as described in the Complaint.

The Department of Justice will receive for a period of thirty (30) days from the date of this publication comments relating to the Decree. Comments should be addressed to the Assistant Attorney General, Environment and Natural Resources Division, and either e-mailed to the pubcomment-ees.enrd@usdoj.gov or mailed to P.O. Box 7611, U.S. Department of Justice, Washington, DC 20044-7611, and should refer to United States and the State of South Dakota v. Jeraldine Borsch Fahrni, the Chester A. Borsch, Jr. Trust, and Chester A. Borsch, Jr. as Trustee of the Chester A. Borsch, Jr. Trust, Case No. 5:10-CV-05068-JLV, D.J. Ref. No. 90-11-3-08278/2.

The Decree may be examined at the Office of the United States Attorney, District of South Dakota, 515 Ninth Street, Suite 201, Rapid City, South Dakota 57701. It also may be examined at the offices of U.S. EPA Region 8, 1595 Wynkoop Street, Denver, Colorado 80202. During the public comment period, the Decree may be examined on the following Department of Justice Web site, http://www.usdoj.gov/enrd/Consent_Decrees.html.

A copy of the Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies from the Consent Decree Library, please enclose a check in the amount of $8.25 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-20656 Filed 8-19-10; 8:45 am]

BILLING CODE 4410-15-P